DEPARTMENT OF HEALTH AND HUMAN SERVICES

Centers for Disease Control and Prevention

World Trade Center (WTC) Health Program Scientific/Technical Advisory Committee; Notice of Establishment

Pursuant to Public Law 111-347 (The James Zadroga 9/11 Health and Compensation Act of 2010) and the Federal Advisory Committee Act, as amended (5 U.S.C. App), the Director, Centers for Disease Control and Prevention (CDC), announces the establishment of the World Trade Center (WTC) Health Program Scientific/Technical Advisory Committee.

The WTC Health Program shall provide, beginning on July 1, 2011: (1) Medical monitoring and treatment benefits to eligible emergency responders and recovery and cleanup workers (including those who are Federal employees) who responded to the September 11, 2001, terrorist attacks; and (2) initial health evaluation, monitoring, and treatment benefits to residents and other building occupants and area workers in New York City, who were directly impacted and adversely affected by such attacks. This advisory committee will review scientific and medical evidence and make recommendations to the WTC Program Administrator on additional WTC Health Program eligibility criteria and additional WTC-related health conditions. The committee may be consulted on other matters as related to and outlined in the Act at the discretion of the WTC Program Administrator.

For information, contact Larry Elliott, Designated Federal Officer, World Trade Center Health Program Scientific/Technical Advisory Committee, National Institute for Occupational Safety and Health, HHS, CINC Building, ROBER Room 141, M/S C46, Cincinnati, Ohio 45226, telephone (513) 533-6891, or fax (513) 533-6826.

The Director, Management Analysis and Services Office, has been delegated the authority to sign Federal Register notices pertaining to announcements of meetings and other committee management activities for both the Centers for Disease Control and Prevention, and the Agency for Toxic Substances and Disease Registry.

Dated: May 5, 2011.
Elaine L. Baker,
Director, Management Analysis and Services Office, Centers for Disease Control and Prevention.

[FR Doc. 2011-11698 Filed 5-11-11; 8:45 am]

BILLING CODE 4163-18-P